DEPARTMENT OF THE TREASURY

Submission for OMB Review; Comment Request

January 10, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 15, 2008 to be assured of consideration.

Internal Revenue Service (IRS)

OMB Number: 1545-2082.

Type of Review: Extension.

Title: Excise Tax Declaration for an IRS e-file Return.

Form: 8453-EX.

Description: The Form 8453-EX, Excise Tax Declaration for an IRS e-file Return, will be used in the Modernized e-File program. This form is necessary to enable the electronic filing of Forms 720, 2290, and 8849. The authority to e-file Form 2290 is Internal Revenue Code section 4481(e), as added by section 867(c) of Public Law 108-357.

Respondents: Businesses or other for-profit institutions.

Estimated Total Burden Hours: 42,600 hours.

OMB Number: 1545-1637.

Type of Review: Extension.

Title: REG-106177-98 (Final) Adequate Disclosure of Gifts.

Description: The information requested in regulation section 301.6501(c)-1(f) (2) that must be provided on a gift tax return is necessary to give the IRS a complete and accurate description of the transfer in order to begin the running of the statute of limitations on the gift. Prior to the expiration of the statute of limitations, a gift tax may be assessed and the value may be adjusted in order to determine the value of prior taxable gifts for estate and gift tax purposes.

Respondents: Individuals or households.

Estimated Total Burden Hours: 1 hour.

OMB Number: 1545-1916.

Type of Review: Extension.

Title: REG-159824-04 (NPRM) Regulations Governing Practice Before the Internal Revenue Service.

Description: These regulations set forth minimum standards for State or local bond options.

Respondents: Individuals or households.

Estimated Total Burden Hours: 30,000 hours.

OMB Number: 1545-1471.

Type of Review: Extension.

Title: REG-209626-93 (Final) Notice, Consent, and Election Requirements under sections 411(a)(11) and 417.

Description: These regulations concern the ability to make a distribution from a qualified plan within 30 days of giving the participant a written explanation of the distribution options provided the plan administrator informs the participant of the right to have at least 30 days to consider the options.

Respondents: Businesses or other for-profit institutions.

Estimated Total Burden Hours: 8,333 hours.

OMB Number: 1545-1462.

Type of Review: Extension.

Title: PS-268-82 (Final) Definitions Under Subchapter S of the Internal Revenue Code

Description: The regulations provide definitions and special rules under Code section 1377 which affect S corporations and their shareholders.

Respondents: Businesses or other for-profit institutions.

Estimated Total Burden Hours: 1,000 hours.

OMB Number: 1545-1628.

Type of Review: Extension.

Title: REG-118620-97 (Final) Communications Excise Tax; Prepaid Telephone Cards.

Form: 3911.

Description: Carriers must keep certain information documenting their sales of prepaid telephone cards to other carriers to avoid responsibility for collecting tax. The regulations provide rules for the application of the communication excise tax to prepaid telephone cards.

Respondents: Businesses or other for-profit institutions.

Estimated Total Burden Hours: 34 hours.

OMB Number: 1545-1612.

Type of Review: Extension.

Title: REG-209830-96 (Final) Estate and Gift Tax Marital Deduction.

Description: The information requested in regulation section 20.2056(b)-7(d)(3)(ii) is necessary to provide a method for estates of decedents whose estate tax returns were due on or before February 18, 1997, to obtain an extension of time to make the qualified terminable interest property (QTIP) election under section 2056(b)(7)(B)(v).

Respondents: Individuals or households.

Estimated Total Burden Hours: 1 hour.

Clearance Officer: Glenn P. Kirkland, (202) 622-3428, Internal Revenue Service, Room 6516 , 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-656 Filed 1-15-08; 8:45 am]

BILLING CODE 4830-01-P